DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project—RECOVERY: Increasing Adoption of Patient Centered Behavioral Health Research by Primary and Behavioral Health Providers and Systems—NEW

SAMHSA's Center for Behavioral Health Statistics and Quality (CBHSQ) will conduct a study to evaluate the impact of different strategies for disseminating and promoting the adoption of patient-centered health research results among behavioral health and primary care providers and organizations that are responsible for delivering behavioral health services. Data collected by this study will allow CBHSQ to document and examine the impact of two dissemination strategies on the decision to adopt patient-centered health research; specifically, motivational interviewing and trauma-focused cognitive behavioral therapy. These data will also allow for an examination of contextual factors, both organizational and individual, that influence this decision to adopt an evidence-based behavioral health intervention. Ultimately, data collected by this study will inform those who hope to improve the effectiveness of dissemination strategies aimed at increasing the adoption of patient-centered behavioral health interventions by identifying facilitators and barriers to the adoption process.

Data collection activities involve the administration of five separate surveys (a baseline survey, a followup survey, and three dissemination evaluation surveys) to individuals typically involved in the decisionmaking process pertaining to the adoption of new behavioral interventions at 40 community health organizations and 40 community behavioral health organizations across the United States. Enrolled organizations will submit their responses for all surveys via Qualtrics, a third-party, online Web-based survey platform.

The estimated burden for data collection is 940 hours across a total of 400 participants. Using median hourly wage estimates reported by the Bureau of Labor Statistics, May 2009 National Occupational Employment and Wage Estimates, and a loading rate of 25%, the estimated total cost to respondents is $63,057.04. A breakdown of these estimates is presented in Table 1 below.

Table 1—Estimated Burden for Data Collection
Form name | Number of respondents | Number of responses per respondent | Hours per response | Total hour burden
Health Center Directors:
Baseline Survey, Director Version | 100 | 1 | 0.50 | 50
Followup Survey, Director Version | 100 | 2 | 0.50 | 100
Dissemination Evaluation Survey of the Packets | 100 | 1 | 0.17 | 17
Dissemination Evaluation Survey of the Training Webinar | 50 | 1 | 0.17 | 8.5
Dissemination Evaluation Survey of the Coaching Webinar | 50 | 1 | 0.17 | 8.5
Director Subtotal | 100 |  |  | 184
Health Center Administrators:
Baseline Survey, Staff Version | 100 | 1 | 0.50 | 50
Followup Survey, Staff Version | 100 | 2 | 0.50 | 100
TA Evaluation Survey of the Packets | 100 | 1 | 0.17 | 17
TA Evaluation Survey of the Training Webinar | 50 | 1 | 0.17 | 8.5
TA Evaluation Survey of the Coaching Webinar | 50 | 1 | 0.17 | 8.5
Administrator Subtotal | 100 |  |  | 184
Practitioners:
Baseline Survey, Staff Version | 300 | 1 | 0.50 | 150
Followup Survey, Staff Version | 300 | 2 | 0.50 | 300
TA Evaluation Survey of the Packets | 300 | 1 | 0.17 | 51
TA Evaluation Survey of the Training Webinar | 150 | 1 | 0.17 | 25.5
TA Evaluation Survey of the Coaching Webinar | 150 | 1 | 0.17 | 25.5
Practitioner Subtotal | 300 |  |  | 552
Total | 500 |  |  | 920

Written comments and recommendations concerning the proposed information collection should be sent by June 1, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: April 20, 2011.
Elaine Parry,
Director, Office of Management, Technology and Operations.

[FR Doc. 2011-10519 Filed 4-29-11; 8:45 am]

BILLING CODE 4162-20-P